ENVIRONMENTAL PROTECTION AGENCY

40 CFR Part 80

Regulation of Fuels and Fuel Additives

CFR Correction

In Title 40 of the Code of Federal Regulations, Parts 72 to 80, revised as of July 1, 2001, on page 705, § 80.101 is corrected by removing the second paragraph (f)(4).

[FR Doc. 02-55501 Filed 1-30-02; 8:45 am]

BILLING CODE 1505-01-D